DEPARTMENT OF STATE

[Public Notice 4706]

Notice of Meeting of the Advisory Committee on International Law

A meeting of the Advisory Committee on International Law will take place on Thursday, May 20, 2004, from 10 a.m. to approximately 4 p.m., as necessary, in Room 1105 of the United States Department of State, 2201 C Street, NW., Washington, DC. The meeting will be chaired by the Legal Adviser of the Department of State, William H. Taft, IV, and will be open to the public up to the capacity of the meeting room. The meeting will discuss various issues relating to current international legal topics, including developments in Iraq, an update on treaties, the decision of the International Court of Justice in Avena and other Mexican Nationals (Mexico v. U.S.), the draft articles on state responsibility produced by the International Law Commission, and NAFTA Chapter 11 arbitrations.

Entry to the building is controlled and will be facilitated by advance arrangements. Members of the public desiring access to the session should, by Tuesday, May 18, 2004 notify the Office of the Assistant Legal Adviser for United Nations Affairs (telephone (202) 647-2767) of their name, Social Security number, date of birth, professional affiliation, address and telephone number in order to arrange admittance. This includes admittance for government employees as well as others. All attendees must use the “C” Street entrance. One of the following valid IDs will be required for admittance: Any U.S. driver's license with photo, a passport, or a U.S. Government agency ID. Because an escort is required at all times, attendees should expect to remain in the meeting for the entire morning or afternoon session.

Dated: May 10, 2004.
Judith L. Osborn,
Attorney-Adviser, Office of United Nations Affairs, Office of the Legal Adviser, Executive Director, Advisory , Committee on International Law, Department of State.

[FR Doc. 04-11107 Filed 5-13-04; 8:45 am]

BILLING CODE 4710-08-P